COMMITTEE FOR THE IMPLEMENTATION OF TEXTILE AGREEMENTS

Determination Under the Textile and Apparel Commercial Availability Provision of the Dominican Republic-Central America-United States Free Trade Agreement (“CAFTA-DR”)

AGENCY: The Committee for the Implementation of Textile Agreements.

ACTION: Determination to add a product in unrestricted quantities to Annex 3.25 of the CAFTA-DR.

SUMMARY: The Committee for the Implementation of Textile Agreements (“CITA”) has determined that certain faux leather fabric bonded to a pile fabric, as specified below, is not available in commercial quantities in a timely manner in the CAFTA-DR countries. The product is added to the list in Annex 3.25 of the CAFTA-DR in unrestricted quantities.

DATES:

Applicable Date: January 28, 2026.

ADDRESSES: https://otexaprod.trade.gov/otexacapublicsite/requests/cafta under “Approved Requests,” File Number: CA2025005.

FOR FURTHER INFORMATION CONTACT: Laurie Mease, Office of Textiles and Apparel, U.S. Department of Commerce, (202) 482-2043 or Laurie.Mease@trade.gov.

SUPPLEMENTARY INFORMATION:

Authority: The CAFTA-DR; Section 203(o)(4) of the Dominican Republic-Central America-United States Free Trade Agreement Implementation Act (“CAFTA-DR Implementation Act”), Public Law 109-53; the Statement of Administrative Action accompanying the CAFTA-DR Implementation Act; and Presidential Proclamation 7987 (February 28, 2006).

Background: The CAFTA-DR provides a list in Annex 3.25 for fabrics, yarns, and fibers that the Parties to the CAFTA-DR have determined are not available in commercial quantities in a timely manner in the territory of any Party. The CAFTA-DR provides that this list may be modified pursuant to Article 3.25.4, when the United States determines that a fabric, yarn, or fiber is not available in commercial quantities in a timely manner in the territory of any Party. See Annex 3.25 of the CAFTA-DR; see also section 203(o)(4)(C) of the CAFTA-DR Implementation Act.

The CAFTA-DR Implementation Act requires the President to establish procedures governing the submission of a request and providing opportunity for interested entities to submit comments and supporting evidence before a commercial availability determination is made. In Presidential Proclamation 7987, the President delegated to CITA the authority under section 203(o)(4) of CAFTA-DR Implementation Act for modifying the Annex 3.25 list. Pursuant to this authority, on September 15, 2008, CITA published modified procedures it would follow in considering requests to modify the Annex 3.25 list of products determined to be not commercially available in the territory of any Party to the CAFTA-DR (Modifications to Procedures for Considering Requests Under the Commercial Availability Provision of the Dominican Republic-Central America-United States Free Trade Agreement, 73 FR 53200) (“CITA's Procedures”).

On December 11, 2025, CITA received a Commercial Availability Request (“Request”) from Youngone (El Salvador) S.A. de C.V. (“Youngone”) for certain faux leather fabric bonded to a pile fabric, as specified below. On December 15, 2025, in accordance with CITA's Procedures, CITA notified interested parties of the Request, which was posted on the dedicated website for CAFTA-DR Commercial Availability proceedings. In its notification, CITA advised that any Response with an Offer to Supply (“Response”) must be submitted by December 26, 2025, and any Rebuttal to a Response (“Rebuttal”) must be submitted by January 2, 2026, in accordance with sections 6 and 7 of CITA's Procedures. In accordance with Executive Order 14371 (Providing for the Closing of Executive Departments and Agencies of the Federal Government on December 24, 2025, and December 26, 2025, 90 FR 60545), CITA extended the deadlines for Responses and Rebuttals by two U.S. business days, or through December 30, 2025 and January 6, 2026, respectively. CITA notified the public of the extension on its website.

No interested entity submitted a Response to the Request advising CITA of its objection to the Request with an offer to supply the subject product. In accordance with section 203(o)(4)(C) of the CAFTA-DR Implementation Act, and section 8(c)(2) of CITA's Procedures, as no interested entity submitted a Response objecting to the Request and providing an offer to supply the subject product, CITA has determined to add the specified fabric to the list in Annex 3.25 of the CAFTA-DR.

The subject product has been added to the list in Annex 3.25 of the CAFTA-DR Agreement in unrestricted quantities. A revised list has been posted on the dedicated website for CAFTA-DR Commercial Availability proceedings, at https://otexaprod.trade.gov/otexacapublicsite/shortsupply/cafta.

Specifications: Certain Faux Leather Fabric Bonded to a Pile Fabric

HTS: 6001.92.00.

Fabric Type: Knit fabric, faux leather bonded to a pile fabric.

Fiber Content:

Face: Faux leather fabric constructed from a 100% polyester knit fabric coated with polyurethane.

Back: Sherpa knit pile fabric 72-83% polyester, 16-26% acrylic.

Yarn Size:

Face: 75 Denier sea-island filament 100% polyester used for both warp and weft.

Back: Binding polyester 150 denier polyester combined with tops acrylic fiber, weighing between 11 to 17 grams.

Thread Count:

Face: Wales/cm 32, Course/cm 32.

Back: Wales/cm 7, Course/cm 8.

Weight: 520-535 grams per square meter.

Width: 133 to 147 centimeters (equivalent to 52.4 inches to 57.8 inches).

Weave: Knit in both, face and back.

Coloration:

Face: fiber dyed, colors: black, brown and beige and overprinted;

Back Side: fiber dyed in colors black, brown and beige.

Finishing: Bonded using the Moltopren heat process, which involves a flame lamination technique that fuses the layers through controlled heat and pressure. The finished sherpa hair has a height of approximately 11 mm in the back.

Additional Information: Sea island fiber is also known as super-conjugate fiber or butterfly polyester yarn, is formed by a core component dispersed in another polymer in a longitudinally continuous way. Polymer material forms the core part, which is also called the island phase or dispersed phase. Another polymer is called sea component, sea phase, or continuous phase. Because original dispersed phase fiber presents as an island state in the fiber section, it is called sea-island fiber.

Joshua Kroon,
Chairman, Committee for the Implementation of Textile Agreements.

[FR Doc. 2026-01692 Filed 1-27-26; 8:45 am]

BILLING CODE 3510-DR-P